DEPARTMENT OF HEALTH AND HUMAN SERVICES

Centers for Disease Control and Prevention

[Docket No. CDC-2015-0112]

2016 Guideline for Prescribing Opioids for Chronic Pain

AGENCY: Centers for Disease Control and Prevention (CDC), Department of Health and Human Services (HHS).

ACTION: Notice.

SUMMARY: The Centers for Disease Control and Prevention (CDC), located within the Department of Health and Human Services (HHS), announces the availability of the 2016 Guideline for Prescribing Opioids for Chronic Pain. CDC published the Guideline in the March 18, 2016 edition of CDC's Morbidity and Mortality Weekly Report, Recommendations and Reports. This notice provides the public with official notice of the availability of the Guideline.

DATES: CDC published the Guideline on March 18, 2016 in the Morbidity and Mortality Weekly Report, Recommendations and Reports.

FOR FURTHER INFORMATION CONTACT: Arlene I. Greenspan, National Center for Injury Prevention and Control, Centers for Disease Control and Prevention, 4770 Buford Highway NE., Mailstop F-63, Atlanta, Georgia 30341. Telephone: (770) 488-4694; email: duipinquiries@cdc.gov.

SUPPLEMENTARY INFORMATION: On December 14, 2015, CDC published a notice in the Federal Register announcing the opening of a docket for public comment on the draft 2016 Guideline for Prescribing Opioids for Chronic Pain (81 FR 77351). CDC also had a public comment opportunity during the National Center for Injury Prevention and Control's Board of Scientific Counselors meeting on January 28, 2016.

CDC developed the Guideline to provide recommendations about opioid prescribing for primary care providers who are treating adult patients with chronic pain in outpatient settings, outside of active cancer treatment, palliative care, and end-of-life care. The Guideline summarizes scientific knowledge about the effectiveness and risks of long-term opioid therapy and provides recommendations for when to initiate or continue opioids for chronic pain; opioid selection, dosage, duration, follow-up, and discontinuation; and assessing risk and addressing harms of opioid use.

CDC received more than 4,350 public comments on the draft Guideline from professional organizations, industry, academia, and the public. All comments were carefully reviewed and considered in the development of the final Guideline.

The “CDC Guideline for Prescribing Opioids for Chronic Pain—United States, 2016” has been added to the docket and can also be found at www.cdc.gov/MMWR.

Dated: March 17, 2016.
Sandra Cashman,
Executive Secretary, Centers for Disease Control and Prevention.

[FR Doc. 2016-06567 Filed 3-22-16; 8:45 am]

BILLING CODE 4163-18-P